DEPARTMENT OF HOMELAND SECURITY

Office of the Secretary

[Docket No. DHS-2008-0185]

Data Privacy and Integrity Advisory Committee

AGENCY: Office of the Secretary, Department of Homeland Security.

ACTION: Notice of Federal Advisory Committee Meeting.

SUMMARY: The Data Privacy and Integrity Advisory Committee will meet on December 3, 2008, in Arlington, VA. This meeting will be open to the public.

DATES: The Data Privacy and Integrity Advisory Committee will meet on Wednesday, December 3, 2008 from 9 a.m. to 12 p.m. and 1:30 p.m. to 4 p.m. Please note that the meeting may close early if the committee has completed its business.

ADDRESSES: The meeting will be held in Galleries I and II of the Hilton Arlington Hotel, 950 North Stafford Street, Arlington, Virginia 22203.

Send written materials, comments, and requests to make oral presentations to Ken Hunt, Executive Director, Data Privacy and Integrity Advisory Committee, Department of Homeland Security, Washington, DC 20528. Written materials, comments, and requests to make oral presentations at the meeting should reach the contact person listed by November 26, 2008. Requests to have a copy of your material distributed to each member of the committee prior to the meeting should reach the persons listed under FOR FURTHER INFORMATION CONTACT, below, by November 26, 2008. Persons wishing to make comments or who are unable to attend or speak at the meeting may submit comments at any time. All submissions received must include the docket number: DHS-2008-0185 and may be submitted by any one of the following methods:

• Federal Rulemaking Portal: http://www.regulations.gov. Follow instructions for submitting comments on the web site.

• E-mail: PrivacyCommittee@dhs.gov. Include docket number in the subject line of the message.

• Fax: (866) 466-5370.

• Mail: Mr. Ken Hunt, Executive Director, Data Privacy and Integrity Advisory Committee, Department of Homeland Security, Washington, DC 20528.

Instructions: All submissions received must include the words “Department of Homeland Security Data Privacy and Integrity Advisory Committee” and the docket number: DHS-2008-0185. Comments received will also be posted without alteration at www.regulations.gov, including any personal information provided.

Docket: For access to the docket to read background documents or comments received by the DHS Data Privacy and Integrity Committee, go to www.regulations.gov.

FOR FURTHER INFORMATION CONTACT: Hugo Teufel III, Chief Privacy Officer, or Ken Hunt, Executive Director, Data Privacy and Integrity Advisory Committee, Department of Homeland Security, Washington, DC 20528, by telephone (703) 235-0780 or by fax (703) 235-0442, or by e-mail PrivacyCommittee@dhs.gov.

SUPPLEMENTARY INFORMATION: Notice of this meeting is given under the Federal Advisory Committee Act, 5 U.S.C. App. (Pub. L. 92-463). 41 CFR 102-3.150(b) (2001) permits that, “in exceptional circumstances, the agency * * * may give less than 15 calendar days notice, provided that the reasons for doing so are included in the advisory committee meeting notice published in the Federal Register.” This notice appears less than 15 calendar days before the meeting date because the Department was unable to obtain suitable meeting space in time to allow for routine 15-day notice.

During the meeting, the DHS Chief Privacy Officer will provide an update on the activities of the DHS Privacy Office. Invited speakers will discuss the Presidential transition and the Privacy Office priorities for the future. The Subcommittees will update the Committee on their current work. A tentative agenda is posted on the Privacy Advisory Committee Web site at www.dhs.gov/privacy.

At the discretion of the Chair, members of the public may make brief (i.e., no more than three minutes) oral presentations from 3:30 p.m.-4 p.m. If you would like to make an oral presentation at the meeting, please register in advance or sign up on the day of the meeting. If you would like a copy of your material(s) distributed to each member of the committee in advance, please submit 22 copies to Ken Hunt by November 26, 2008.

Information on Services for Individuals With Disabilities

For information on facilities or services for individuals with disabilities or to request special assistance at the meeting, contact Ken Hunt as soon as possible.

Dated: November 12, 2008.
John Kropf,
Deputy Chief Privacy Officer.

[FR Doc. E8-27361 Filed 11-18-08; 8:45 am]

BILLING CODE 4410-10-P